FEDERAL COMMUNICATIONS COMMISSION

47 CFR Parts 1, 20, and 43

[WC Docket Nos. 19-195 and 11-10; DA 19-1240; FRS 16319]

Establishing the Digital Opportunity Data Collection; Modernizing the FCC Form 477 Data Program; Corrections

AGENCY: Federal Communications Commission.

ACTION: Technical amendments.

SUMMARY: In this document, the Federal Communications Commission (Commission), Managing Director, adopted an Order implementing non-substantive revisions of the Commission's rules to eliminate a redundant provision and modify related rules for consistency with the amendments that the Commission adopted in a Report and Order published in the Federal Register.

DATES: Effective on January 8, 2020.

FOR FURTHER INFORMATION CONTACT: Daniel Daly, Office of Managing Director at (202) 418-1832.

SUPPLEMENTARY INFORMATION: This is a summary of the Commission's Order, DA 19-1240, released December 6, 2016. The full text of this document is available for public inspection during regular business hours in the FCC Reference Center, Room CY-A257, 445 12th Street SW, Washington, DC 20554 or at the following internet address: https://docs.fcc.gov/public/attachments/DA-19-1240A1.pdf.

In the Report and Order, FCC 19-79, 84 FR 43705, August 22, 2019, the Commission revised 47 CFR parts 1, 20, and 43 of the Commission's rules to create a new Digital Opportunity Data Collection program and to modify its existing FCC Form 477 Data Program. This Order implements related revisions to eliminate redundancy and conform other rules to the amendments adopted in the Report and Order.

Specifically, both §§ 1.7002 and 43.01(d) of the Commission's rules (47 CFR 1.7002, 43.01(d)) establish requirements regarding the frequency and content of FCC Form 477 filings. This Order eliminates this potentially confusing redundancy by deleting § 43.01(d). In turn, the deletion of paragraph (d) of § 43.01 requires that paragraph (b) of § 43.01 be amended to remove the cross-reference to the deleted paragraph (d). In addition, § 20.15(b)(1) of the rules (47 CFR 20.15(b)(1)) contains references to §§ 1.7001 and 43.11 (47 CFR 1.7001, 43.11) that are inconsistent with the Commission's recent amendment of § 1.7001 and its repeal of § 43.11. Accordingly, this Order removes § 43.01(d), revises §§ 20.15(b)(1) and 43.01(b) for conformity with these rule amendments, and corrects an error in § 1.7001(a)(2)(iv). These changes should not be construed to change any substantive requirements.

List of Subjects

47 CFR Part 1

Administrative practice and procedure, Broadband, Reporting and recordkeeping requirements, Telecommunications.

47 CFR Part 20

Commercial mobile services, Reporting and recordkeeping requirements.

47 CFR Part 43

Communications common carriers, Reporting and recordkeeping requirements.

Accordingly, 47 CFR parts 1, 20, and 43 are revised by making the following correcting amendments:

PART 1—PRACTICE AND PROCEDURE

1. The authority citation for part 1 continues to read as follows:

Authority: 47 U.S.C. chs. 2, 5, 9, 13; 28 U.S.C. 2461 note, unless otherwise noted.

§ 1.7001 [Amended]

2. In § 1.7001(a)(2)(iv), remove the words “Wireless service” and add, in its place, the words “Wireless spectrum”.

PART 20—COMMERCIAL MOBILE SERVICES

3. The authority citation for part 20 continues to read as follows:

Authority: 47 U.S.C. 151, 152(a) 154(i), 157, 160, 201, 214, 222, 251(e), 301, 302, 303, 303(b), 303(r), 307, 307(a), 309, 309(j)(3), 316, 316(a), 332, 610, 615, 615a, 615b, 615c, unless otherwise noted.

4. In § 20.15, revise the first sentence of paragraph (b)(1) to read as follows:

§ 20.15 Requirements under Title II of the Communications Act.

* * * * *

(b) * * *

(1) File with the Commission copies of contracts entered into with other carriers or comply with other reporting requirements, or with §§ 1.781 through 1.814 and 43.21 of this chapter; except that commercial radio service providers that are facilities-based providers of broadband service or facilities-based providers of mobile telephony service, as described in § 1.7001(b)(1) and (3) of this chapter, are required to file reports pursuant to §§ 1.7000-1.7002 of this chapter. * * *

* * * * *

PART 43—REPORTS OF COMMUNICATIONS COMMON CARRIERS, PROVIDERS OF INTERNATIONAL SERVICES AND CERTAIN AFFILIATES

5. The authority citation for part 43 continues to read as follows:

Authority: 47 U.S.C. 35-39, 154, 211, 219, 220; sec. 402(b)(2)(B), (c), Pub. L. 104-104, 110 Stat. 129.

6. In § 43.01, revise paragraph (b) and remove paragraph (d) to read as follows:

§ 43.01 Applicability.

* * * * *

(b) Except as provided in paragraph (c) of this section, carriers becoming subject to the provisions of the several sections of this part for the first time, shall, within thirty (30) days of becoming subject, file the required data as set forth in the various sections of this part.

* * * * *

Federal Communications Commission.
Marlene Dortch,
Secretary.

[FR Doc. 2019-27644 Filed 1-7-20; 8:45 am]

BILLING CODE 6712-01-P